DEPARTMENT OF ENERGY

Blue Ribbon Commission on America's Nuclear Future

AGENCY: Office of Nuclear Energy, Department of Energy.

ACTION: Notice of open meeting.

SUMMARY: This notice announces an open meeting of the Blue Ribbon Commission on America's Nuclear Future (the Commission). The Commission was organized pursuant to the Federal Advisory Committee Act (Pub. L. 92-463, 86 Stat. 770) (the Act). This notice is provided in accordance with the Act.

DATES: Tuesday, September 21, 2010. 8:30 a.m.-4:45 p.m. Wednesday, September 22, 2010. 8:30 a.m.-1 p.m.

ADDRESSES: Washington Marriott Hotel, 1221 22nd Street, NW., Washington, DC. Phone: 202-872-1500.

FOR FURTHER INFORMATION CONTACT: Timothy A. Frazier, Designated Federal Officer, U.S. Department of Energy, 1000 Independence Avenue, SW., Washington, DC 20585; telephone (202) 586-4243 or facsimile (202) 586-0544; e-mail CommissionDFO@nuclear.energy.gov. Additional information will be available at http://www.brc.gov.

SUPPLEMENTARY INFORMATION:

Background: The President directed that the Commission be established to conduct a comprehensive review of policies for managing the back end of the nuclear fuel cycle. The Commission will provide advice and make recommendations on issues including alternatives for the storage, processing, and disposal of civilian and defense spent nuclear fuel and nuclear waste. The Commission is scheduled to submit a draft report to the Secretary of Energy in July 2011 and a final report in January 2012.

This is the fourth full Commission meeting. Previous meetings were held in March, May, and July 2010. Webcasts of the previous meetings along with meeting transcripts and presentations are available at http://www.brc.gov.

Purpose of the Meeting: The meeting will provide the Commission an opportunity to hear presentations and statements covering four broad areas: Nuclear waste program governance, international perspectives and implications of U.S. decisions regarding the back-end of the nuclear fuel cycle, the ethical foundations for nuclear waste management, and experiences and perspectives on public engagement in the facility siting process.

Tentative Agenda: The meeting is expected to start at 8:30 a.m. on Tuesday, September 21, 2010. The schedule for the 21st will include presentations and statements to the Commission. The meeting will resume at 8:30 a.m. on Wednesday, September 22, 2010, with presentations and statements to the Commission and Commission discussions lasting until about noon. The meeting will conclude with public statements and will end about 1 p.m.

Public Participation: Individuals and representatives of organizations who would like to offer comments and suggestions may do so at the end of the public session on Wednesday, September 22, 2010. Approximately 1 hour will be reserved for public comments from 12 p.m. to 1 p.m. Time allotted per speaker will depend on the number who wish to speak but will not exceed 5 minutes. The Designated Federal Officer is empowered to conduct the meeting in a fashion that will facilitate the orderly conduct of business. Those wishing to speak should register to do so beginning at 7:30 a.m. on September 22, 2010, at the Washington Marriott. Registration to speak will close at 11 a.m., September 22, 2010.

Those not able to attend the meeting or have insufficient time to address the subcommittee are invited to send a written statement to Timothy A. Frazier, U.S. Department of Energy, 1000 Independence Avenue, SW., Washington, DC 20585, e-mail to CommissionDFO@nuclear.energy.gov, or post comments on the Commission Web site at http://www.brc.gov.

Additionally, the meeting will be available via live video webcast. The link will be available at http://www.brc.gov.

Minutes: The minutes of the meeting will be available at http://www.brc.gov or by contacting Mr. Frazier. He may be reached at the postal address or e-mail address above.

Issued in Washington, DC, on August 27, 2010.
Rachel Samuel,
Deputy Committee Management Officer.

[FR Doc. 2010-21868 Filed 8-31-10; :45 8 am]

BILLING CODE 6450-01-P